DEPARTMENT OF HEALTH AND HUMAN SERVICES

Administration for Children and Families

Submission for OMB Review; Comment Request

Title: ANA Reviewer Profile for Panel Review Participation Form.

OMB No.: 0970-265.

Description: The Department of Health and Human Services (HHS), Administration for Children and Families (ACF) proposes to revise the ANA Reviewer Profile for Panel Review Participation Form. The ANA Reviewer Profile for Panel Review Participation Form is used to collect information from prospective proposal reviewers in compliance with 42 U.S.C. 2991d 1. First time reviewers will be required to complete all sections of the form while returning reviewers will be required to complete the first section of the document and other necessary updates. The form allows the Commissioner of ANA to select qualified people to review grant applications submitted in response to funding opportunity announcements for ANA's primary programs: Social and Economic Development Strategies (SEDS); Native Language Preservation and Maintenance; and Environmental Regulatory Enhancement. The panel review process is a legislative mandate in the ANA grant funding process.

The earlier version of this tool, “ANA Consultant and Evaluator Qualification Form”, previously approved under information collection number OMB: 0970-0265, expired on 4/30/2014. ANA temporarily discontinued the tool because ANA needed more time to streamline the document to meet her current information needs. This notice is issued to support ANA's continued use of the data collection tool, with major changes to eliminate duplication of reporting, and to improve the clarity and content of the questions. Therefore, these changes will not result in additional reporting burden on ANA grant reviewers or grantees; rather the revisions are designed to reduce the burden.

Respondents: All US citizens including: Native Americans, Native Alaskans, Native Hawaiians and other Pacific Islanders.

Annual Burden Estimates
Instrument | Number of respondents | Number of responses per respondent | Average burden hours per response | Total burden hours
ANA Consultant and Evaluator Qualifications Form | 300 | 1 | .5 | 150

Estimated Total Annual Burden Hours: 150.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, Email: OIRA_SUBMISSION@OMB.EOP.GOV, Attn: Desk Officer for the Administration for Children and Families.

Robert Sargis,
Reports Clearance Officer.

[FR Doc. 2014-26733 Filed 11-10-14; 8:45 am]

BILLING CODE 4184-01-P